DEPARTMENT OF HEALTH AND HUMAN SERVICES

Centers for Disease Control and Prevention

Board of Scientific Counselors, Office of Public Health Preparedness and Response, (BSC, OPHPR)

AGENCY: Centers for Disease Control and Prevention (CDC), Department of Health and Human Services (HHS).

ACTION: Notice of meeting.

SUMMARY: In accordance with the Federal Advisory Committee Act, the CDC announces the following meeting for the Board of Scientific Counselors, Office of Public Health Preparedness and Response, (BSC, OPHPR). This meeting is open to the public, limited only by the space available. The meeting room accommodates up to 80 people. Public participants should pre-register for the meeting as described below.

Members of the public that wish to attend this meeting in person should pre-register by submitting the following information by email, facsimile, or phone (see Contact Person for More Information) no later than 12:00 noon (EDT) on Thursday, April 18, 2019:

• Full Name

• Organizational Affiliation

• Complete Mailing Address

• Citizenship

• Phone Number or Email Address

The public is also welcome to listen to the meeting via Adobe Connect. Pre-registration is required by clicking the links below.

WEB ID April 24, 2019 registration: https://adobeconnect.cdc.gov/epvdyo95oxsu/event/registration.html.

WEB ID April 25, 2019 registration: https://adobeconnect.cdc.gov/em35bdp1ivh9/event/registration.html.

Dial in number: 888-664-9959; Participant code: 9241417 (110 seats).

DATES: The meeting will be held on April 24 2019, 10:30 a.m. to 5:00 p.m., EDT; April 25, 2019, 8:30 a.m. to 3:00 p.m., EDT.

ADDRESSES: Centers for Disease Control and Prevention (CDC), Global Communications Center, Building 19, Auditorium B3, 1600 Clifton Road NE, Atlanta, Georgia 30329.

FOR FURTHER INFORMATION CONTACT: Dometa Ouisley, Office of Science and Public Health Practice, Centers for Disease Control and Prevention, 1600 Clifton Road NE, Mailstop D-44, Atlanta, Georgia 30329, Telephone: (404) 639-7450; Fax: (404) 471-8772; Email: OPHPR.BSC.Questions@cdc.gov.

SUPPLEMENTARY INFORMATION: Purpose: This Board is charged with providing advice and guidance to the Secretary, Department of Health and Human Services (HHS), the Assistant Secretary for Health (ASH), the Director, Centers for Disease Control and Prevention (CDC), and the Director, Office of Public Health Preparedness and Response (OPHPR), concerning strategies and goals for the programs and research within OPHPR, monitoring the overall strategic direction and focus of the OPHPR Divisions and Offices, and administration and oversight of peer review for OPHPR scientific programs. For additional information about the Board, please visit: http://www.cdc.gov/phpr/science/counselors.htm.

Matters To Be Considered: The two day agenda will include: Day One of meeting will cover briefings and BSC deliberation on the following topics: (1) OPHPR Updates from Director, (2) OPHPR Interval Updates from Division Directors, (3) Updates on the Global Health Security Agenda, (4) Report from the Biological Agent Containment Working Group (BACWG), and (5) Update on the response to the Ebola outbreak in the Democratic Republic of Congo (DRC).

Day Two of the meeting will cover briefings and BSC deliberation on the following topics: (1) Preparedness Updates and OPHPR Discussion—Liaison Representatives, (2) CDC Public Health Law Program Preparedness and Response, (3) Updates from the OPHPR Office of Policy, Planning, and Evaluation. Agenda items are subject to change as priorities dictate.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-04826 Filed 3-14-19; 8:45 am]

BILLING CODE 4163-19-P